ENVIRONMENTAL PROTECTION AGENCY

[FRL-6568-4]

Agency Information Collection Activities: Submission for OMB Review; Comment Request; Assess Compliance With EPCRA Section 312 Reporting Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Assess Compliance with EPCRA Section 312 Reporting Requirements, EPA ICR Number 1909.01. The ICR describes the nature of the information collection and its expected burden and cost; where appropriate, it includes the actual data collection instrument.

DATES: Comments must be submitted on or before May 1, 2000.

FOR FURTHER INFORMATION CONTACT: For a copy of the ICR contact Sandy Farmer at EPA by phone at (202) 260-2740, by email at farmer.sandy@epa.gov, or download a copy of the ICR off the Internet at http://www.epa.gov/icr and refer to EPA ICR No. 1909.01. For technical questions about the ICR contact John Mason at (202) 564-7037, fax: (202) 564-0009, or email: mason.john@epa.gov.

SUPPLEMENTARY INFORMATION: Title: Assess Compliance with EPCRA Section 312 Reporting Requirements, EPA ICR No. 1909.01. This is a new collection.

Abstract: The Emergency Planning and Community Right-to-know Act (EPCRA) section 312 requires facilities which are required to prepare or have available Material Safety Data Sheets (MSDS) as required by OSHA to submit an annual emergency and hazardous chemical inventory form containing the amount and location of hazardous chemicals stored at the facility. Although EPCRA section 312 is a federal requirement, State Emergency Response Commissions (SERCs) and Local Emergency Planning Committees (LEPCs) are the main recipients and benefactors of this information. The inventory reports allow “first responders” (e.g., local fire departments) to be informed about the presence of hazardous chemicals in the community and help facilitate development of the local emergency response plan. They also enhance community awareness of chemical hazards in the local area.

EPA has initiated compliance projects among a number of industrial, service and/or government sectors including: the iron and steel industry, the primary nonferrous metals industry, metal services (electroplating and coating), the chemical preparation industry, pulp and paper mills, the telecommunications industry, coal-fired power plants, the automobile servicing industry, mining, the petroleum refineries, organic chemical manufacturers, and municipalities. These projects include, in some cases, efforts to enhance compliance with EPCRA section 312.

EPA will be working with states and facilities to assure and confirm compliance with EPCRA requirements. In particular, EPA will ask the states whether the facilities submitted their Tier I or II forms and when during the reporting year the forms were submitted. The information sought with this ICR is who among selected sectors that produce, use, or store hazardous chemicals (as defined by the Occupational Safety and Health Act of 1970) submitted Tier II forms to the SERC and/or the LEPC, and when did they submit them. This information is being sought to assess compliance with the requirements of EPCRA section 312.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 08/27/99 (64 FR 46905); three comments were received.

Burden Statement: The annual public reporting burden for this collection of information is estimated to average 2.95 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States asked to review the Tier I or II submissions.

Estimated Number of Respondents: 53.

Frequency of Response: One time.

Estimated Total Annual Hour Burden: 2308 hours.

Estimated Total Annualized Cost Burden (non-labor costs): $0.

Send comments on the Agency's need for this information, the accuracy of the provided burden estimates, and any suggested methods for minimizing respondent burden, including through the use of automated collection techniques to the following addresses. Please refer to EPA ICR No. 1909.01 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: March 20, 2000.
Oscar Morales,
Director, Collection Strategies Division.

[FR Doc. 00-7886 Filed 3-29-00; 8:45 am]

BILLING CODE 6560-50-P